ENVIRONMENTAL PROTECTION AGENCY

[FRL-7651-2]

Public Water Supply Supervision Program Revision for the Commonwealth of Puerto Rico

AGENCY: Environmental Protection Agency.

ACTION: Notice of tentative approval and solicitation of request for a public hearing for Public Water Supply Supervision Program revision for the Commonwealth of Puerto Rico.

SUMMARY: Notice is hereby given that the United States Environmental Protection Agency (EPA) has determined to approve an application by the Commonwealth of Puerto Rico to revise its Public Water Supply Supervision Primacy Program to incorporate regulations no less stringent than the EPA's National Primary Drinking Water Regulations (NPDWR) for the following: Public Notification Rule; Final Rule, promulgated by EPA on May 4, 2000 (65 FR 25982), two associated technical corrections to the Public Notification Rule; Final Rule; technical correction, promulgated by EPA June 21, 2000 (65 FR 38629) and Public Notification; Final Rule; technical correction, promulgated by EPA June 30, 2000 (65 FR 40520), and the Radionuclides; Final Rule, promulgated by EPA on December 7, 2000 (65 FR 76709). The application demonstrates that Puerto Rico has adopted drinking water regulations which satisfy the NPDWRs for the above. The USEPA has determined that Puerto Rico's regulations are no less stringent than the corresponding Federal Regulations and that Puerto Rico continues to meet all requirements for primary enforcement responsibility as specified in 40 CFR 142.10.

DATES: This determination to approve the Commonwealth's primacy program revision application is made pursuant to 40 CFR 142.12(d)(3). It shall become final and effective May 24, 2004, unless (1) a timely and appropriate request for a public hearing is received or (2) the Regional Administrator elects to hold a public hearing on her own motion. Any interested person, other than Federal Agencies, may request a public hearing. A request for a public hearing must be submitted to the Regional Administrator at the address shown below within thirty (30) days after the date of the Federal Register Notice. If a substantial request for a public hearing is made within the requested thirty day time frame, a public hearing will be held and a notice will be given in the Federal Register and a newspaper of general circulation. Frivolous or insubstantial requests for a hearing may be denied by the Regional Administrator. If no timely and appropriate request for a hearing is received and the Regional Administrator does not elect to hold a hearing on her own motion, this determination shall become final and effective thirty (30) days after publication of the Federal Register notice.

Any request for a public hearing shall include the following information: (1) Name, address and telephone number of the individual organization or other entity requesting a hearing; (2) a brief statement of the requesting person's interest in the Regional Administrator's determination and a brief statement on information that the requesting person intends to submit at such hearing; (3) the signature of the individual making the requests or, if the request is made on behalf of an organization or other entity, the signature of a responsible official of the organization or other entity.

ADDRESSES: Requests for Public Hearing shall be addressed to: Regional Administrator, U.S. Environmental Protection Agency—Region 2, 290 Broadway, New York, New York 10007-1866.

All documents relating to this determination are available for inspection between the hours of 9 a.m. and 4:30 p.m., Monday through Friday, at the following offices:

Puerto Rico Department of Health, Public Water Supply Supervision Program, 9th Floor—Suite 903, Nacional Plaza Building, 431 Ponce De Leon Avenue, Hato Rey, Puerto Rico, 00917

U.S. Environmental Protection Agency—Region 2, 24th Floor Drinking Water Section, 290 Broadway, New York, New York 10007-1866

FOR FURTHER INFORMATION CONTACT: Michael J. Lowy, Drinking Water Section, U.S. Environmental Protection Agency—Region 2, (212) 637-3830.

Authority: Section 1413 of the Safe Drinking Water Act, as amended, 40 U.S.C. 300g-2, and 40 CFR 142.10, 142.12(d) and 142.13.

Jane M. Kenny,
Regional Administrator, Region 2.

[FR Doc. 04-9044 Filed 4-21-04; 8:45 am]

BILLING CODE 6560-50-P